DEPARTMENT OF VETERANS AFFAIRS

Advisory Committee on Minority Veterans, Notice of Meeting

The Department of Veterans Affairs (VA) gives notice under the Federal Advisory Committee Act, 5 U.S.C. App. 2 that a meeting of the Advisory Committee on Minority Veterans will be held in Jacksonville, Florida from April 12-14, 2016, at the below times and locations:

On April 12, from 8:45 a.m. to 3:30 p.m., at the Lake City VA Medical Center, Building 100, Room A123 (Director's Conference Room) 619 S. Marion Avenue, Lake City, Florida;

On April 13, from 9:15 a.m. to 11:15 a.m., at the Jacksonville National Cemetery, 4083 Lannie Road, Jacksonville, FL; from 1:45 p.m. to 3:30 p.m., at the Jacksonville Outpatient Clinic, Room 2L 103-106, 1536 N. Jefferson St., Jacksonville, FL; 4:30 p.m. to 6:30 p.m., conducting a Town Hall Meeting at the University of Florida, LRC Auditorium, Learning Resource Center-1st Floor, 653-1 West 8t Street, Jacksonville, FL .

On April 14, from 8:45 a.m. to 4:45 p.m., at the Jacksonville Outpatient Clinic, Room 2L 103-106, 1536 N. Jefferson St., Jacksonville, FL.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 12 from 8:45 a.m. to 11:00 a.m., the Committee will meet in open session with key staff at the Lake City VA Medical Center to discuss services, benefits, delivery challenges, and successes. From 11:00 a.m. to 12:00 p.m., the Committee will convene a closed session in order to protect patient privacy as the Committee tours the VA Medical Center. In the afternoon from 1:30 p.m. to 3:30 p.m., the Committee will reconvene as the Committee is briefed by senior Veterans Benefits Administration staff from the St. Petersburg Regional Benefit Office.

On the morning of April 13 from 9:15 a.m. to 11:15 a.m., the Committee will convene in open session at the Jacksonville National Cemetery followed by a tour of the cemetery. The Committee will meet with key staff to discuss services, benefits, delivery challenges and successes. In the afternoon from 1:45 p.m. to 3:30 p.m., the Committee will reconvene in open session to be briefed and tour the VA Jacksonville Outpatient Clinic. In the evening, the Committee will hold a Veterans Town Hall meeting beginning at 4:30 p.m., at the University of Florida LRC Auditorium.

On the morning of April 14 from 8:45 a.m. to 12:00 p.m., the Committee will convene in open session at the VA Jacksonville Outpatient Clinic to conduct an exit briefing with leadership from the Lake City VA Medical Center, St. Petersburg Regional Benefit Office, and Jacksonville National Cemetery. In the afternoon from 1:30 p.m. to 4:00 p.m., the Committee will work on drafting recommendations for the annual report to the Secretary.

Portions of these visits are closed to the public in accordance with 5 U.S.C. 552b(c)(6). Exemption 6 permits to Committee to close those portions of a meeting that is likely to disclose information of a personal nature where disclosure would constitute a clearly unwarranted invasion of personal privacy. During the closed sessions the Committee will discuss VA beneficiary and patient information in which there is a clear unwarranted invasion of the Veteran or beneficiary privacy.

Time will be allocated for receiving public comments on April 14, at 10 a.m. Public comments will be limited to three minutes each. Individuals wishing to make oral statements before the Committee will be accommodated on a first-come first serve basis. Individuals who speak are invited to submit a 1-2 page summaries of their comments at the time of the meeting for inclusion in the official record. The Committee will accept written comments from interested parties on issues outlined in the meeting agenda, as well as other issues affecting minority Veterans. Such comments should be sent to Ms. Juanita Mullen, Advisory Committee on Minority Veterans, Center for Minority Veterans (00M), Department of Veterans Affairs, 810 Vermont Avenue NW., Washington, DC 20420, or email at Juanita.Mullen@va.gov. For additional information about the meeting, please contact Ms. Juanita Mullen at (202) 461-6199.

Dated: March 28, 2016.
Jelessa Burney,
Federal Advisory Committee Management Office.

[FR Doc. 2016-07325 Filed 3-31-16; 8:45 am]

BILLING CODE 8320-01-P